DEPARTMENT OF COMMERCE

International Trade Administration

[A-570-868]

Folding Metal Tables and Chairs From the People's Republic of China: Final Results of Antidumping Duty Administrative Review and New Shipper Review, and Revocation of the Order in Part

AGENCY: Import Administration, International Trade Administration, Department of Commerce.

SUMMARY: The Department of Commerce (“Department”) published its Preliminary Results of administrative review (“AR”) of the antidumping duty order, new shipper review (“NSR”), and intent to revoke order in part, on folding metal tables and chairs from the People's Republic of China (“PRC”) on June 20, 2011.¹ The period of review (“POR”) for both reviews is June 1, 2009, through May 31, 2010. We invited interested parties to comment on our Preliminary Results. Based on our analysis of the comments received, we have made changes to our margin calculations. Therefore, the final results differ from the preliminary results. The final dumping margins for these reviews are listed in the “Final Results of Review” section below.

¹ See Folding Metal Tables and Chairs from the People's Republic of China: Preliminary Results of Antidumping Duty Administrative Review and New Shipper Review, and Intent to Revoke in Part, 76 FR 35832 (June 20, 2011) (“Preliminary Results”).

DATES: Effective Date: October 25, 2011.

FOR FURTHER INFORMATION CONTACT: Lilit Astvatsatrian or Trisha Tran, AD/CVD Operations, Office 4, Import Administration, International Trade Administration, U.S. Department of Commerce, 14th Street and Constitution Avenue, NW., Washington, DC 20230; telephone: (202) 482-6412 or (202) 482-4852, respectively.

Background

On June 20, 2011, the Department published its Preliminary Results. On July 11, 2011,² Meco Corporation (“Meco”), a domestic producer of the like product and the petitioner in the underlying investigation, and Xinjiamei Furniture (Zhangzhou) Co., Ltd. (“Xinjiamei Furniture”), the new shipper in the NSR, provided new surrogate value information for the administrative review and NSR, respectively. On June 28, 2011, the Department announced its new wage rate methodology and invited comments from parties in both reviews. On July 5, 2011, the Department announced a minor revision to the exchange rate calculation methodology used to convert the surrogate wage rate.

² The Department rejected Meco's July 11, 2011, surrogate value submission and Meco re-submitted it on August 9, 2011.

On July 20, 2011,³ Meco, New-Tec Integration (Xiamen) Co., Ltd. (“New-Tec”), a mandatory respondent in the administrative review, and Lifetime Hong Kong, Ltd. (“Lifetime”), a separate-rate respondent in the administrative review, submitted case briefs for the administrative review, and Xinjiamei Furniture submitted a case brief in the NSR.

³ The Department rejected Meco's July 20, 2011, case brief and Meco re-submitted it on August 9, 2011.

On July 25, 2011,⁴ the Department received rebuttal briefs in the administrative review from Meco, New-Tec, Feili Group (Fujian) Co., Ltd. and Feili Furniture Development Limited Quanzhou City (collectively, “Feili”), a mandatory respondent in the administrative review, Lifetime, and Cosco Home and Office Products, an importer interested party, and from Meco for the NSR. On August 11, 2011, the Department held a public hearing on the administrative review.

⁴ The Department rejected Meco's original rebuttal brief submitted on July 25, 2011 for the NSR and Meco re-submitted it on August 2, 2011.

We have conducted these reviews in accordance with section 751 of the Tariff Act of 1930, as amended (“the Act”), 19 CFR 351.241, and 19 CFR 351.213.

Scope of Order

The products covered by the order consist of assembled and unassembled folding tables and folding chairs made primarily or exclusively from steel or other metal, as described below:

(1) Assembled and unassembled folding tables made primarily or exclusively from steel or other metal (folding metal tables). Folding metal tables include square, round, rectangular, and any other shapes with legs affixed with rivets, welds, or any other type of fastener, and which are made most commonly, but not exclusively, with a hardboard top covered with vinyl or fabric. Folding metal tables have legs that mechanically fold independently of one another, and not as a set. The subject merchandise is commonly, but not exclusively, packed singly, in multiple packs of the same item, or in five piece sets consisting of four chairs and one table. Specifically excluded from the scope of the order regarding folding metal tables are the following:

Lawn furniture;

Trays commonly referred to as “TV trays;”

Side tables;

Child-sized tables;

Portable counter sets consisting of rectangular tables 36″ high and matching stools; and, Banquet tables. A banquet table is a rectangular table with a plastic or laminated wood table top approximately 28″ to 36″ wide by 48″ to 96″ long and with a set of folding legs at each end of the table. One set of legs is composed of two individual legs that are affixed together by one or more cross-braces using welds or fastening hardware. In contrast, folding metal tables have legs that mechanically fold independently of one another, and not as a set.

(2) Assembled and unassembled folding chairs made primarily or exclusively from steel or other metal (folding metal chairs). Folding metal chairs include chairs with one or more cross-braces, regardless of shape or size, affixed to the front and/or rear legs with rivets, welds or any other type of fastener. Folding metal chairs include: those that are made solely of steel or other metal; those that have a back pad, a seat pad, or both a back pad and a seat pad; and those that have seats or backs made of plastic or other materials. The subject merchandise is commonly, but not exclusively, packed singly, in multiple packs of the same item, or in five piece sets consisting of four chairs and one table. Specifically excluded from the scope of the order regarding folding metal chairs are the following:

Folding metal chairs with a wooden back or seat, or both;

Lawn furniture;

Stools;

Chairs with arms; and

Child-sized chairs.

The subject merchandise is currently classifiable under subheadings 9401.71.0010, 9401.71.011, 9401.71.0030, 9401.71.0031, 9401.79.0045, 9401.79.0046, 9401.79.0050, 9403.20.0018, 9403.20.0015, 9403.20.0030, 9403.60.8040, 9403.70.8015, 9403.70.8020, and 9403.70.8031 of the Harmonized Tariff Schedule of the United States (“HTSUS”). Although the HTSUS subheadings are provided for convenience and customs purposes, the Department's written description of the merchandise is dispositive.

Analysis of Comments Received

All issues raised in the post-preliminary comments by parties in these reviews are addressed in the memorandum from Gary Taverman, Acting Deputy Assistant Secretary for Antidumping and Countervailing Duty Operations, to Ronald K. Lorentzen, Deputy Assistant Secretary for Import Administration, “Issues and Decision Memorandum for the 2009-2010 Administrative Review of Folding Metal Tables and Chairs from the People's Republic of China” (October 18, 2011) (“Issues and Decision Memorandum of the Administrative Review”) and the memorandum from Gary Taverman, Acting Deputy Assistant Secretary for Antidumping and Countervailing Duty Operations, to Ronald K. Lorentzen, Deputy Assistant Secretary for Import Administration, “Issues and Decision Memorandum for the 2009-2010 New Shipper Review of the Antidumping Duty Order on Folding Metal Tables and Chairs from the People's Republic of China” (October 18, 2011) (“Issues and Decision Memorandum of the NSR”), which are hereby adopted by this notice. Lists of the issues that parties raised and to which we responded in the Issues and Decision Memoranda are attached to this notice as an appendix. The Issues and Decision Memoranda are public documents and are on file electronically via Import Administration's Antidumping and Countervailing Duty Centralized Electronic Service System (“IA ACCESS”). Access to IA ACCESS is available in the Central Records Unit (“CRU”), room 7046 of the main Department of Commerce building. In addition, a complete version of the Issues and Decision Memoranda can be accessed directly on the Internet at http://www.trade.gov/ia/. The signed Issues and Decision Memoranda and the electronic versions of the Issues and Decision Memoranda are identical in content.

Changes Since the Preliminary Results

Based on our analysis of comments received, we have made changes in the margin calculations for Feili and New-Tec in the administrative review and Xinjiamei Furniture in the NSR.

• With respect to New-Tec, we applied the Sigma freight cap to the factors of production (“FOP”) inputs where the reported distances from the domestic supplier to the factory were greater than the reported distance from the factory to the nearest port.⁵

⁵ See Issues and Decision Memorandum of the Administrative Review, at Comment 3.

• With respect to New-Tec, we have deducted PHONEYCOMB1, (i.e., paper honeycomb reported as a direct material) in the total packing calculation and PHONEYCOMB2 (i.e., paper honeycomb reported as a packing material) in the total direct material calculation.⁶

⁶ See id., at Comment 4.

• With respect to Xinjiamei Furniture, the Department corrected the program so that the calculated labor costs properly reflect the result of the reported direct labor, indirect labor, and packing labor FOPs multiplied by the labor surrogate value.⁷

⁷ See Issues and Decision Memorandum of the NSR, at Comment 2.

• We have recalculated New-Tec's, Feili's, and Xinjiamei Furniture's surrogate values for the labor cost based on the methodology proposed in (1) Labor Methodologies,⁸ (2) Wage Rate Memo and NSR Memorandum: Industry-Specific Surrogate Wage Rate; ⁹ and (3) Labor Cost Conversion Memo and NSR Memorandum: Labor Cost Conversion.¹⁰ As a result of the Department's newly-adopted, single-country and industry-specific, labor cost calculation methodology and application of the daily exchange rate in the SAS program, we have changed the surrogate labor rate for New-Tec, Feili, and Xinjiamei Furniture to 50.36 Rs/Hrs.

⁸ Antidumping Methodologies in Proceedings Involving Non-Market Economies: Valuing the Factor of Production: Labor, 76 FR 36092 (June 21, 2011) (“Labor Methodologies”).

⁹ See Memorandum to the File, entitled “2009-2010 New Shipper Review of the Antidumping Duty Order on Folding Metal Tables and Chairs from the People's Republic of China: Industry-Specific Surrogate Wage Rate and Surrogate Financial Ratio Adjustments,” dated June 28, 2011 (“NSR Memorandum: Industry-Specific Surrogate Wage Rate”) and Memorandum to the File, entitled “2009-2010 Administrative Review of the Antidumping Duty Order on Folding Metal Tables and Chairs from the People's Republic of China: Industry-Specific Surrogate Wage Rate and Surrogate Financial Ratio Adjustments,” dated June 28, 2011 (“Wage Rate Memo”).

¹⁰ See Memorandum to the File, entitled “2009-2010 New Shipper Review of the Antidumping Duty Order on Folding Metal Tables and Chairs from the People's Republic of China: Labor Cost Conversion,” dated July 15, 2011 (“NSR Memorandum: Labor Cost Conversion”) and Memorandum to the File, entitled “2009-2010 Administrative Review of the Antidumping Duty Order on Folding Metal Tables and Chairs from the People's Republic of China: Labor Cost Conversion,” dated July 15, 2011 (“Labor Cost Conversion Memo”).

• For the final results of the AR and NSR, the Department relied on the ILO Yearbook Chapter 6A as its primary data source and revised the overhead financial ratio as set forth in Labor Methodologies, Wage Rate Memo, the NSR Memorandum: Industry-Specific Surrogate Wage Rate, Labor Cost Conversion Memo, and the NSR Memorandum: Labor Cost Conversion. As a result, the following individual identifiable labor costs in the surrogate financial statements were re-categorized in order to ensure that Chapter 6A labor costs, included in the ILO defined “Labor cost” and “Compensation of employees,” are not over-stated, as listed below: (1) Contribution to Provident Fund, EDLI Gratuity Etc. and (2) Staff & Labour Welfare. Based on the foregoing methodology, the revised surrogate overhead ratio to be applied for the final results is 4.92 percent for New-Tec Feili, and Xinjiamei Furniture.

• For the final results for Lifetime, we have applied the 2.78 percent rate that was calculated for Xinjiamei Furniture, the respondent in the companion new shipper review, instead of the rate applied in the preliminary results, which was calculated for New Tec in a previous administrative review.¹¹

¹¹ See Issues and Decision Memorandum of the Administrative Review, at Comment 5.

Final Results of Reviews

We determine that the dumping margins for the POR are as follows:

Exporter | Weighted-average margin
Feili Group (Fujian) Co., Ltd., Feili Furniture Development Limited Quanzhou City | 0.03 (de minimis)
New-Tec Integration (Xiamen) Co., Ltd | 0.00%
Lifetime Hong Kong Ltd | 2.78%
Xinjiamei Furniture (Zhangzhou) Co., Ltd., Xinjiamei (Zhangzhou) Commodity Co., Ltd | 2.78%

Determination To Revoke Order, in Part

The Department may revoke, in whole or in part, an antidumping duty order upon completion of a review under section 751 of the Act. While Congress has not specified the procedures that the Department must follow in revoking an order, the Department has developed a procedure for revocation that is described in 19 CFR 351.222. This regulation requires, inter alia, that a company requesting revocation must submit the following: (1) A certification that the company has sold the subject merchandise at not less than normal value (“NV”) in the current

review period and that the company will not sell subject merchandise at less than NV in the future; (2) a certification that the company sold commercial quantities of the subject merchandise to the United States in each of the three years forming the basis of the request; and (3) an agreement to immediate reinstatement of the order if the Department concludes that the company, subsequent to the revocation, sold subject merchandise at less than NV.¹² Upon receipt of such a request to revoke an order in part, the Department will consider: (1) Whether the company in question has sold subject merchandise at not less than NV for a period of at least three consecutive years; (2) whether the company has agreed in writing to its immediate reinstatement in the order, as long as any exporter or producer is subject to the order, if the Department concludes that the company, subsequent to the revocation, sold the subject merchandise at less than NV; and (3) whether the continued application of the antidumping duty order is otherwise necessary to offset dumping.¹³

¹² See 19 CFR 351.222(e)(1).

¹³ See 19 CFR 351.222(b)(2)(i) and Sebacic Acid From the People's Republic of China: Final Results of Antidumping Duty Administrative Review and Determination To Revoke Order in Part, 67 FR 69719, 69720 (November 19, 2002).

We have determined that the request from New-Tec meets all of the criteria for revocation under 19 CFR 351.222. With regard to the criteria of 19 CFR 351.222(b)(2), our final margin calculations show that New-Tec sold folding metal tables and chairs at not less than NV during the current review period. In addition, New-Tec sold folding metal tables and chairs at not less than NV in the two previous administrative reviews (i.e., New-Tec's dumping margins were zero or de minimis).¹⁴ Also, we find that application of the antidumping duty order to New-Tec is no longer warranted. We base this partial revocation of the order with respect to New-Tec on three consecutive years of sales made in commercial quantities at not less than NV and on New-Tec's agreement to immediate reinstatement in the relevant antidumping order, if the Department concludes that it sold the subject merchandise at less than NV subsequent to revocation.¹⁵ Moreover, no party has contested the revocation analysis for New-Tec. Therefore, we continue to find that New-Tec qualifies for revocation, in part, of the antidumping duty order on folding metal tables and chairs from the PRC under 19 CFR 351.222(b)(2).

¹⁴ See Folding Metal Tables and Chairs from the People's Republic of China: Final Results of Antidumping Duty Administrative Review, 74 FR 3560 (January 21, 2009); and Folding Metal Tables and Chairs from the People's Republic of China: Final Results of Antidumping Duty Administrative Review, 74 FR 68568 (December 28, 2009).

¹⁵ See Memorandum to the File entitled, “Analysis of Commercial Quantities for New-Tec's Request for Revocation,” dated May 31, 2011.

Accordingly, we are revoking the order with respect to subject merchandise exported by New-Tec.

Effective Date of Revocation

This revocation applies to all entries of subject merchandise that are exported by New-Tec, and are entered, or withdrawn from warehouse, for consumption on or after June 1, 2010. The Department will order the suspension of liquidation lifted for all such entries and will instruct U.S. Customer and Border Protection (“CBP”) to release any cash deposits or bonds. The Department will further instruct CBP to refund with interest any cash deposits on entries made on or after June 1, 2010.

Assessment

The Department will determine, and CBP shall assess, antidumping duties on all appropriate entries of subject merchandise in accordance with the final results of these reviews. For assessment purposes, we calculated exporter/importer- (or customer) specific assessment rates for merchandise subject to these reviews. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer- (or customer) specific assessment rate is de minimis under 19 CFR 351.106(c) (i.e., less than 0.50 percent), the Department will instruct CBP to assess that importer (or customer's) entries of subject merchandise without regard to antidumping duties. Because we have revoked the order with respect to subject merchandise exported by New-Tec, we will instruct CBP to terminate the suspension of liquidation for imports of such merchandise entered, or withdrawn from warehouse, for consumption on or after June 1, 2010, and to refund all cash deposits collected. The Department intends to issue appropriate assessment instructions directly to CBP 15 days after publication of the final results of these reviews.

Cash Deposit Requirements

The following cash deposit requirements will be effective upon publication of the final results of this administrative review for all shipments of the subject merchandise from the PRC entered, or withdrawn from warehouse, for consumption on or after the publication date, as provided for by section 751(a)(2)(C) of the Act: (1) For previously investigated or reviewed PRC and non-PRC exporters not listed above that have separate rates, the cash deposit rate will continue to be the exporter-specific rate published for the most recent period; (2) for all PRC exporters of subject merchandise which have not been found to be entitled to a separate rate, the cash deposit rate will be the PRC-wide rate established in the final results of this review (i.e., 70.71 ercent); and (3) for all non-PRC exporters of subject merchandise which have not received their own rate, the cash deposit rate will be the rate applicable to the PRC exporters that supplied that non-PRC exporter. These deposit requirements, when imposed, shall remain in effect until further notice.

Notification to Interested Parties

This notice serves as a final reminder to importers of their responsibility under 19 CFR 351.402(f)(2) to file a certificate regarding the reimbursement of antidumping duties prior to liquidation of the relevant entries during the review period. Pursuant to 19 CFR 351.402(f)(3), failure to comply with this requirement could result in the Department's presumption that reimbursement of antidumping duties occurred and the subsequent assessment of doubled antidumping duties.

This notice also serves as a reminder to parties subject to administrative protective order (“APO”) of their responsibility concerning the disposition of proprietary information disclosed under APO as explained in the administrative protective order itself. Timely written notification of the return/destruction of APO materials or conversion to judicial protective order is hereby requested. Failure to comply with the regulations and the terms of an APO is a sanctionable violation.

This notice of the final results of these reviews is issued and published in accordance with sections 751(a)(1) and 777(i) of the Act.

Dated: October 18, 2011.
Ronald K. Lorentzen,
Deputy Assistant Secretary for Import Administration.

Appendix

List of Comments and Issues in the Issues and Decision Memorandum for the Administrative Review

Comment 1: Selection of the Primary Surrogate Country.

A. Economic Comparability.

B. Significant Production of Comparable Merchandise.

C. Best Available Surrogate Value Information.

1. Best Available Data.

2. Labor Rate.

Comment 2: Surrogate Financial Statements.

A. Use of Maximaa's Financial Statements.

B. Use of Lion's Financial Statements.

Comment 3: Application of Sigma Cap in New-Tec's Supplier Distance Calculation.

Comment 4: Application of Paper Honey Comb in New-Tec's Direct and Packing Material Calculation.

Comment 5: Application of the Appropriate Margin to Lifetime.

List of Comments and Issues in the Issues and Decision Memorandum for the New Shipper Review

Comment 1: Surrogate Value for Cold Rolled Steel Coil.

Comment 2: Calculation of Labor Costs.

Comment 3: Treatment of Overhead Surrogate Financial Ratio.

[FR Doc. 2011-27576 Filed 10-24-11; 8:45 am]

BILLING CODE 3510-DS-P